DEPARTMENT OF HOMELAND SECURITY

Coast Guard

46 CFR Part 113

[Docket No. USCG-2020-0075]

RIN 1625-AC66

Update to Electrical Engineering Regulations; Correction

AGENCY: Coast Guard, DHS.

ACTION: Final rule; correcting amendment.

SUMMARY: In a final rule the Coast Guard published in the Federal Register on March 16, 2023, an inadvertent error in an amendatory instruction prevented the processing of a change in our regulations. This document corrects that error.

DATES: Effective April 26, 2023.

FOR FURTHER INFORMATION CONTACT: For information about this document call or email Raymond Martin, Systems Engineering Division, Coast Guard; telephone 202-372-1384, email Raymond.W.Martin@uscg.mil.

SUPPLEMENTARY INFORMATION: On March 16, 2023, the Coast Guard published a final rule titled “Update to Electrical Engineering Regulations” at 88 FR 16369. The final rule contained an error in amendatory instruction 121 that prevented the correct updating of 46 CFR 113.50-5. Amendatory instruction 121 in the final rule said the changes were for § 113.50-25, which does not exist. This document corrects that error and adopts the intended changes for § 113.50-5.

We find good cause under provisions in 5 U.S.C. 553(d)(3) to make this correction effective upon publication because delaying the effective date is unnecessary and contrary to the public interest. Waiting 30 days after publication to correct the error within the final rule is unnecessary and contrary to the public's interest in having access to accurate and current regulations. The March 16, 2023 final rule preamble discussion indicated the changes were for the right section, § 113.50-5, but the amendatory instruction was inaccurate.

List of Subjects in 46 CFR Part 113

Communications equipment, Fire prevention, Incorporation by reference, Vessels.

For the reasons stated in the preamble, the Coast Guard is correcting 46 CFR part 113 with the following correcting amendment:

PART 113—COMMUNICATION AND ALARM SYSTEMS AND EQUIPMENT

1. The authority citation for part 113 continues to read as follows:

Authority: 46 U.S.C. 3306, 3703; DHS Delegation No. 00170.1, Revision No. 01.2.

§ 113.50-5 [Amended]

2. Amend § 113.50-5 as follows:

a. In paragraphs (b) and (d), after the word “maker”, add the words “or initiating device”; and

b. In paragraph (g), remove the text “IEC 60529 (both incorporated by reference; see 46 CFR 110.10-1)” and add, in its place, the text “IEC 60529:2013 (both incorporated by reference; see § 110.10-1 of this subchapter)”.

Dated: April 20, 2023.
M.T. Cunningham,
Chief, Office of Regulations and Administrative Law, U.S. Coast Guard.

[FR Doc. 2023-08745 Filed 4-25-23; 8:45 am]

BILLING CODE 9110-04-P